DEPARTMENT OF HEALTH AND HUMAN SERVICES

Administration for Children and Families

Proposed Information Collection Activity; Comment Request

Proposed Projects:

Title: Court Improvement Program New Grants.

OMB No. 0970-0307.

Description: The President signed the Deficit Reduction Act of 2005, Public Law 109-171, into law on February 8, 2006. The law authorizes and appropriates funds for two new grants under the Court Improvement Program in title IV-B, section 438 of the Social Security Act. The highest State court in a State with an approved title IV-E plan is eligible to apply for either or both of the new grants. The new grants are for the purposes of: (1) Ensuring that the needs of children are met in a timely and complete manner through improved case tracking and analysis of child welfare cases; and (2) training judges, attorneys, and other legal personnel in child welfare cases; and conducting cross-training with child welfare agency staff and contractors.

The statute requires separate applications for these two new grants. The annual burden estimates below describe the estimated burden for the two new grants. ACF collects information from the States about their work under these grants (applications, program reports) by way of a Program Instruction issued on June 15, 2006.

This Program Instruction describes the programmatic and fiscal provisions and reporting requirements for each of the grants, specifies the application submittal and approval procedures for the grants for fiscal years 2006 through 2010, and identifies technical resources for use by State courts during the course of the grants. The agency uses the information received to ensure compliance with the statute and provide training and technical assistance to the grantees.

Respondents: State Courts.

Annual Burden Estimates
Instrument | Number of respondents | Number of responses per respondent | Average burden hours per response | Total burden hours
Application | 52 | 2 | 40 | 4,160
Annual Program Report | 52 | 2 | 36 | 3,744

Estimated Total Annual Burden Hours: 7904.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 30, 2007.
Robert Sargis,
Reports Clearance Officer.

[FR Doc. 07-5491 Filed 11-1-07; 8:45 am]

BILLING CODE 4184-01-M